ENVIRONMENTAL PROTECTION AGENCY

[FRL—6571-6 ]

Science Advisory Board; Notification of Public Advisory Committee Meetings

Pursuant to the Federal Advisory Committee Act, Public Law 92-463, notice is hereby given that three committees of the US EPA Science Advisory Board (SAB) will meet on the dates and times noted below. All times noted are Eastern Daylight Time. All meetings are open to the public, however, seating is limited and available on a first come basis. Important Notice: Documents that are the subject of SAB reviews are normally available from the originating EPA office and are not available from the SAB Office—information concerning availability of documents from the relevant Program Office is included below.

1. Ecological Processes and Effects Committee (EPEC)—April 25-26, 2000

The Ecological Processes and Effects Committee (EPEC) will meet on April 25-26, 2000 in Conference Room 5530 Ariel Rios Building (North Entrance—adjacent to the entrance to the Federal Triangle Metro Stop), 1200 Pennsylvania Avenue, NW, Washington, DC. The meeting will be open to the public, with seating on a first-come, first-served basis. The meeting will convene at 9:00 am on April 25 and at 8:30 am on April 26, and will end no later than 5:30 pm on each day.

The purpose of the meeting is for the Committee to conduct a self-initiated project to offer advice to the Agency on the content and design of an ecological report card. The Committee will discuss a proposed conceptual framework for reporting on ecological condition, and will apply the framework to several Agency examples or programs. As background to the project, the Committee was briefed in July 1998 by various Agency offices on efforts to develop performance measures and environmental indicators. The output of the Committee deliberations is expected to be a report to the Agency describing a proposed framework, with illustrative case examples relevant to EPA programs.

For Further Information—The proposed meeting agenda is available from Ms. Mary Winston, Management Assistant, Committee Operations Staff, Science Advisory Board (1400A), U.S. EPA, 1200 Pennsylvania Avenue, NW, Washington DC 20460, telephone (202) 564-4538, fax (202) 501-0582, or via e-mail at: winston.mary@epa.gov.

Any member of the public wishing to submit comments must contact Ms. Stephanie Sanzone, Designated Federal Officer (DFO) for the Committee, in writing no later than 4:00 pm on April 17, 2000 at: EPA Science Advisory Board (1400A), 1200 Pennsylvania Avenue, NW, Washington DC 20460; fax (202) 501-0582; or e-mail at: sanzone.stephanie@epa.gov. The request should identify the name of the individual who will make the presentation and an outline of the issues to be addressed. Questions concerning the meeting can be directed to Ms. Sanzone at (202) 564-4561.

2. Radiation Advisory Committee (RAC)—April 25-27, 2000

The Radiation Advisory Committee (RAC) will meet on Tuesday, April 25 through Thursday, April 27, 2000. The meeting will convene at 9:00 a.m. each day in Conference Room 6530 Ariel Rios Building (North Entrance—adjacent to the entrance to the Federal Triangle Metro Stop), 1200 Pennsylvania Avenue, NW, Washington, DC and adjourn no later than 5:30 pm the first and second day, and no later than 3:30 pm the third day.

At this meeting, the RAC will: (a) Conduct an advisory on the GENII—Version 2 computer model, (b) conduct an advisory on an approach for uranium mining Technologically Enhanced Naturally Occurring Radioactive Material (TENORM), and (c) conduct a consultation on scenarios for radiological exposure to sewage sludge.

During this meeting, the RAC intends to draft its advisory on the GENII-Version 2 computer model under development by the Office of Radiation and Indoor Air (ORIA) for conducting radiation exposure and risk assessments. This model uses the FRAMES modular system. The charge questions to be answered include, but are not limited to the following:

(a) Is FRAMES a reasonable platform for supporting an integrated system of tools for meeting the diverse environmental modeling needs of ORIA?

(b) Are the GENII v.2 terrestrial transport (exposure and intake modules) and air dispersion models adequate? and

(c) Are the examples and documentation provided with the software adequate and helpful? What advice does the RAC have on ways to tabulate and present the output?

During the meeting the RAC also intends to draft its advisory on Technologically Enhanced Naturally Occurring Radioactive Material (TENORM). The Agency is asking the RAC's advice on the adequacy of EPA's proposed approach for characterizing TENORM, and whether EPA is appropriately applying this approach in the technical report for uranium mining TENORM which is under development. The charge questions to be answered include, but are not limited to the following:

(a) Is EPA's general approach for characterizing TENORM in a given technical report adequate;

(b) Has the general approach been appropriately applied for uranium mining TENORM?; and

(c) Is the risk assessment approach, as outlined, adequate for evaluating risks from uranium mining TENORM? In particular, have the key exposure scenarios been considered?

For Further Information—Members of the public wishing further information concerning the meeting, such as copies of the proposed meeting agenda, or who wish to submit written comments should contact Mrs. Diana L. Pozun at (202) 564-4544; fax (202) 501-0582, or via e-mail at: pozun.diana@epa.gov. Members of the public who wish to make a brief oral presentation to the Committee must contact (by letter or by fax—see contact information below) no later than 12 noon Daylight Time, Wednesday, April 19, 2000 in order to be included on the Agenda. Public comments will be normally limited to ten minutes per speaker or organization. The request should identify the name of the individual making the presentation, the organization (if any) they will represent, any requirements for audio visual equipment (e.g., overhead projector, 35mm projector, chalkboard, easel, etc), and at least 35 copies of an outline of the issues to be addressed or of the presentation itself. For further information, contact Ms. Melanie Medina-Metzger, Designated Federal Officer for the Radiation Advisory Committee, Science Advisory Board (1400A), U.S. EPA, 1200 Pennsylvania Avenue, NW, Washington, DC 20460, phone (202) 564-5987; fax (202) 501-0582; or via e-mail at: medina-metzger.melanie@epa.gov.

For questions pertaining to the GENII v.2 model, please contact Dr. Anthony Wolbarst (6608J), ORIA, U.S. Environmental Protection Agency, 1200 Pennsylvania Avenue, NW, Washington, DC 20460, tel. (202) 564-9392; fax (202) 565-2042; or e-mail at: wolbarst.anthony@epa.gov. For questions pertaining to the advisory on uranium mining TENORM, please contact Mr. Loren W. Setlow (6608J), ORIA, U.S. Environmental Protection Agency, 1200 Pennsylvania Avenue, NW, Washington, DC 20460, tel. (202) 564-9445; fax (202) 565-2065; or e-mail at: setlow.loren@epa.gov. For questions pertaining to the consultation on sewage sludge scenarios or on any other topics discussed between the SAB's RAC and the ORIA staff, please contact Dr. Mary E. Clark, (6601J), ORIA, U.S. Environmental Protection Agency, 1200 Pennsylvania Avenue, NW, Washington, DC 20460, tel. (202) 564-9348; fax (202) 565-2043; or e-mail at: clark.marye@epa.gov.

3. Executive Committee (EC)—May 1, 2000

The Executive Committee (EC) of the Science Advisory Board (SAB) will conduct a public teleconference meeting on Monday, May 1, 2000 between the hours of 1:00 and 3:00 pm Eastern Daylight Time. The meeting will be coordinated through a conference call connection in Room 6013, USEPA, Ariel Rios Building (North Entrance—adjacent to the entrance to the Federal Triangle Metro Stop), 1200 Pennsylvania Avenue, NW, Washington, DC. The public is encouraged to attend the meeting in the conference room noted above, however, the public may also attend through a telephonic link, if lines are available. Additional instructions about how to participate in the conference call can be obtained by calling Ms. Priscilla Tillery-Gadson no later than one week prior to the meeting (by April 24, 2000) at (202) 564-4533, or via e-mail at tillery.priscilla@epa.gov.

Purpose of the Meeting—The EC will take action on available reports from its Committees and Subcommittees, which may include the following:

(a) Drinking Water Committee “Comments on EPA's Draft Proposal on a Long-Term 1 Enhanced Surface Water Treatment and Filter Backwash Rule”

(b) Residual Risk Subcommittee “Advisory on the USEPA's Analysis of the Residual Risks of Lead Smelters”

(c) Environmental Engineering Committee “Commentary on Waste Re-Use”

Availability of Review Materials—All reports available for action by the EC will be posted on the SAB Website (http://www.epa.gov/sab) at least one week prior to the meeting.

For Further Information—Any member of the public wishing further information concerning this meeting or wishing to submit brief oral comments must contact Dr. Donald Barnes, Designated Federal Officer, Science Advisory Board (1400A), U.S. Environmental Protection Agency, 1200 Pennsylvania Avenue, NW, Washington, DC 20460; telephone (202) 564-4533; fax (202) 501-0582; or via e-mail at barnes.don@epa.gov. Requests for oral comments must be in writing (e-mail, fax or mail) and received by Dr. Barnes no later than noon Daylight Time on April 24, 2000.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information—Additional information concerning the Science Advisory Board, its structure, function, and composition, may be found on the SAB Website (http://www.epa.gov/sab) and in The FY1999 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact the DFO at least five business days prior to the meeting so that appropriate arrangements can be made.

Dated: March 29, 2000.
Donald G. Barnes,
Staff Director, Science Advisory Board.

[FR Doc. 00-8403 Filed 4-5-00; 8:45 am]

BILLING CODE 6560-50-U